DEPARTMENT OF COMMERCE

International Trade Administration

Legal Services Trade Mission to China

AGENCY: International Trade Administration, Department of Commerce.

ACTION: Notice.

SUMMARY: The United States Department of Commerce, International Trade Administration, U.S. and Foreign Commercial Service is amending the Notice published at 78 FR 20893, April 8, 2013, regarding the Executive-Led Legal Services Trade Mission to China scheduled for September 16-18, 2013, to postpone the mission until further notice.

FOR FURTHER INFORMATION CONTACT: Frank Spector, Office of Domestic Operations, Trade Promotion Programs, Phone: 202-482-2054; Fax: 202-482-9000, Email: Frank.Spector@trade.gov.

Frank Spector,
Senior International Trade Specialist.

[FR Doc. 2013-22828 Filed 9-18-13; 8:45 am]

BILLING CODE 3510-FP-P